DEPARTMENT OF ENERGY

Federal Energy Regulatory Commission

Combined Notice of Filings #1

July 7, 2006.

Take notice that the Commission received the following electric corporate filings:

Docket Numbers: EC06-136-000; ER05-1326-003.

Applicants: 330 Investment Management, LLC; 330 MM, LLC, and CornerStone Energy Partners, LLC.

Description: 330 Investment Management, LLC, et al. submits an application for authorization for disposition of Jurisdictional Facilities, request for confidential treatment, and request for acceptance of notice of no material change in status.

Filed Date: 6/30/2006.

Accession Number: 20060706-0044.

Comment Date: 5 p.m. Eastern Time on Friday, July 21, 2006.

Docket Numbers: EC06-137-000.

Applicants: Fortis Bank S.A./N.V.

Description: Cinergy Marketing & Trading, LP et al. submits an application for authorization for disposition of Jurisdictional Assets pursuant to Section 203 of the Federal Power Act.

Filed Date: 6/30/2006.

Accession Number: 20060706-0052.

Comment Date: 5 p.m. Eastern Time on Friday, July 21, 2006.

Take notice that the Commission received the following electric rate filings:

Docket Numbers: ER02-2119-003.

Applicants: Southern California Edison Company.

Description: Southern California Edison Co submits a revised Interconnection Facilities Agreement with Wildflower Energy LP, First Revised Service Agreement 10 under FERC Electric Tariff, Second Revised Volume 6.

Filed Date: 6/30/2006.

Accession Number: 20060705-0080.

Comment Date: 5 p.m. Eastern Time on Friday, July 21, 2006.

Docket Numbers: ER02-2458-009.

Applicants: Midwest Independent Transmission System Operator, Inc.; Michigan Electric Transmission Company, LLC; Wolverine Power Supply Cooperative, Inc.; Michigan Public Power Agency; Trans-Elect, Inc.

Description: Midwest Independent Transmission System Operator, Inc et al. submit a First Amendment to the Amended and Restated Settlement Agreement in compliance with Commission Order issued 9/30/05.

Filed Date: 6/30/2006.

Accession Number: 20060705-0076.

Comment Date: 5 p.m. Eastern Time on Friday, July 21, 2006.

Docket Numbers: ER03-100-003.

Applicants: Just Energy Texas LP.

Description: Just Energy Texas LP. submits a notice of non-material change in status in compliance with the reporting requirements adopted by FERC's Order 652.

Filed Date: 06/30/2006.

Accession Number: 20060705-0079.

Comment Date: 5 p.m. Eastern Time on Friday, July 21, 2006.

Docket Numbers: ER06-360-003; ER06-361-003; ER06-362-003; ER06-363-003; ER06-366-003; ER06-372-003; ER06-373-003.

Applicants: Midwest Independent Transmission System Operator, Inc.; Midwest ISO Transmission Owners.

Description: Midwest Independent Transmission System Operator Inc and Midwest ISO Transmission Owners submit proposed revisions to Schedule 23 of its OAT&EM.

Filed Date: 6/30/2006.

Accession Number: 20060705-0077.

Comment Date: 5 p.m. Eastern Time on Friday, July 21, 2006.

Docket Numbers: ER06-1113-001.

Applicants: Cinergy Marketing & Trading, LP.

Description: Cinergy Marketing & Trading, LP submits its First Revised Sheet 2 to FERC Electric Tariff, Original Volume 1.

Filed Date: 6/29/2006.

Accession Number: 20060703-0206.

Comment Date: 5 p.m. Eastern Time on Friday, July 14, 2006.

Docket Numbers: ER06-1153-001.

Applicants: Indiana Michigan Power Company.

Description: Indiana Michigan Power Co submits corrected Exhibits I and II to its Cost-Based Formula Rate Agreement for Full Requirements Electric Service with the Village of Paw Paw, MI.

Filed Date: 6/29/2006.

Accession Number: 20060705-0172.

Comment Date: 5 p.m. Eastern Time on Thursday, July 20, 2006.

Docket Numbers: ER06-1177-000.

Applicants: PJM Interconnection, L.L.C.

Description: PJM Interconnection, LLC submits revisions to Part IV of its OATT pursuant to Section 205 of the Federal Power Act.

Filed Date: 6/29/2006.

Accession Number: 20060703-0209.

Comment Date: 5 p.m. Eastern Time on Thursday, July 20, 2006.

Docket Numbers: ER06-1179-000.

Applicants: SEMASS Partnership.

Description: SEMASS Partnership submits a Supplement No. 3 to Supplement 1 of its FERC Rate Schedule No. 1, Power Sale Agreement with Commonwealth Electric Co.

Filed Date: 6/28/2006.

Accession Number: 20060703-0207.

Comment Date: 5 p.m. Eastern Time on Wednesday, July 19, 2006.

Docket Numbers: ER06-1180-000.

Applicants: ISO New England Inc.; Participating Transmission Owner Administrative Committee.

Description: ISO New England Inc & the Participating Transmission Owner Administrative Committee et al. submits a revised Transmission Operating Agreement that updates and clarifies the list of Transmission Facilities etc.

Filed Date: 6/28/2006.

Accession Number: 20060705-0171.

Comment Date: 5 p.m. Eastern Time on Wednesday, July 19, 2006.

Docket Numbers: ER06-1181-000.

Applicants: ISO New England Inc.; Participating Transmission Owner Administrative Committee.

Description: ISO New England Inc et al> submits a revised Transmission Operating Agreement and revised Rate Design and Funds Disbursement Agreement to accommodate a new PTO, Vermont Transco LLC.

Filed Date: 6/29/2006.

Accession Number: 20060705-0017.

Comment Date: 5 p.m. Eastern Time on Thursday, July 20, 2006.

Docket Numbers: ER06-1186-000.

Applicants: Portland General Electric Company.

Description: Portland General Electric Co submits revised tariff sheets, Third Revised Sheet No. 3, et al. to its OATT, Original Volume No. 8.

Filed Date: 6/30/2006.

Accession Number: 20060705-0064.

Comment Date: 5 p.m. Eastern Time on Friday, July 21, 2006.

Docket Numbers: ER06-1187-000.

Applicants: PJM Interconnection, LLC.

Description: PJM Interconnection, LLC submits amendments to its OATT in compliance with FERC's 4/25/06 Final Rule, Order 676.

Filed Date: 6/30/2006.

Accession Number: 20060705-0065.

Comment Date: 5 p.m. Eastern Time on Friday, July 21, 2006.

Docket Numbers: ER06-1188-000.

Applicants: Carolina Power & Light Company.

Description: Carolina Power & Light Co dba Progress Energy Carolina Inc submits its Standard Large Generator Interconnection Agreement with North Carolina Electric Membership Corp.

Filed Date: 6/30/2006.

Accession Number: 20060705-0078.

Comment Date: 5 p.m. Eastern Time on Friday, July 21, 2006.

Docket Numbers: ER06-1189-000.

Applicants: Southern California Edison Company.

Description: Southern California Edison Co submits revised Rate Sheets to the Interconnection Facilities Agreement with Wildflower Energy LP.

Filed Date: 6/30/2006.

Accession Number: 20060705-0067.

Comment Date: 5 p.m. Eastern Time on Friday, July 21, 2006.

Docket Numbers: ER06-1191-000.

Applicants: DeSoto County Generating Company, LLC.

Description: DeSoto County Generating Co LLC submits its application for Order Granting Revised Market-Based Rate Authority, Certain Waivers and Blanket Approvals, and Other Revisions to Market Rate Tariff.

Filed Date: 6/30/2006.

Accession Number: 20060705-0074.

Comment Date: 5 p.m. Eastern Time on Friday, July 21, 2006.

Docket Numbers: ER06-1192-000.

Applicants: New England Power Company.

Description: New England Power Co on behalf of Rhode Island et al. submits amendments to the REMVEC II Agreement, Rate Schedule No. 484.

Filed Date: 6/30/2006.

Accession Number: 20060705-0071.

Comment Date: 5 p.m. Eastern Time on Friday, July 21, 2006.

Docket Numbers: ER06-1193-000.

Applicants: California Independent System Operator Corporation.

Description: California Independent System Operator Corp submits an amendment to the Responsible Participating Transmission Owner Agreement with Pacific Gas and Electric Co.

Filed Date: 6/30/2006.

Accession Number: 20060705-0072.

Comment Date: 5 p.m. Eastern Time on Friday, July 21, 2006.

Docket Numbers: ER06-1194-000.

Applicants: PJM Interconnection, LLC; Commonwealth Edison Company.

Description: Commonwealth Edison Co et al. submit revisions to Attachment H-13 of its OATT, Network Integration Transmission Service for the ComEd Zone.

Filed Date: 6/30/2006.

Accession Number: 20060705-0073.

Comment Date: 5 p.m. Eastern Time on Friday, July 21, 2006.

Docket Numbers: ER06-1195-000.

Applicants: Southwest Power Pool, Inc.

Description: Southwest Power Pool, Inc submits an executed Service Agreement for Network Integration Transmission Service w/ Kansas Municipal Energy Agency and Kansas City Power and Light Co.

Filed Date: 6/30/2006.

Accession Number: 20060705-0068.

Comment Date: 5 p.m. Eastern Time on Friday, July 21, 2006.

Docket Numbers: ER06-1196-000.

Applicants: Rumford Power Associates, Limited Partnership.

Description: Rumford Power Associates Limited Partnership submits a Notice of Cancellation of its Rate Schedule FERC No 1.

Filed Date: 6/30/2006.

Accession Number: 20060705-0061.

Comment Date: 5 p.m. Eastern Time on Friday, July 21, 2006.

Docket Numbers: ER06-1197-000.

Applicants: Tiverton Power Association Limited Partnership.

Description: Tiverton Power Associates Limited Partnership submits a Notice of Cancellation of its Rates Schedule FERC No 1.

Filed Date: 6/30/2006.

Accession Number: 20060705-0062.

Comment Date: 5 p.m. Eastern Time on Friday, July 21, 2006.

Docket Numbers: ER06-1199-000.

Applicants: Southwest Power Pool, Inc.

Description: Southwest Power Pool, Inc submits a partially executed Service Agreement for Network Integration Transmission Service, Original Service Agreement No. 1268 with Kansas Power Pool etc,.

Filed Date: 6/30/2006.

Accession Number: 20060705-0069.

Comment Date: 5 p.m. Eastern Time on Friday, July 21, 2006.

Docket Numbers: ER06-1200-000.

Applicants: Western Systems Power Pool, Inc.

Description: Western Systems Power Pool, Inc submits a revised WSPP Agreement, effective 9/1/06.

Filed Date: 6/30/2006.

Accession Number: 20060705-0070.

Comment Date: 5 p.m. Eastern Time on Friday, July 21, 2006.

Docket Numbers: ER06-1201-000.

Applicants: E.ON U.S. Services, Inc.

Description: E.ON U.S. Services Inc submits an unexecuted Interconnection agreement on behalf of its affiliates, Louisville Gas and Electric Co et al.

Filed Date: 6/30/2006.

Accession Number: 20060705-0055.

Comment Date: 5 p.m. Eastern Time on Friday, July 21, 2006.

Docket Numbers: ER06-1202-000.

Applicants: MidAmerican Energy Company.

Description: MidAmerican Energy Co submits a Network Integration Transmission Service Agreement with the Municipal Electric of the City of Cedar Falls, Iowa.

Filed Date: 6/30/2006.

Accession Number: 20060705-0056.

Comment Date: 5 p.m. Eastern Time on Friday, July 21, 2006.

Docket Numbers: ER06-1203-000.

Applicants: Duke Energy Shared Services, Inc.

Description: Duke Energy Shared Services Inc on behalf of the Cincinnati Gas & Electric et al. submits an amendment to its Second Supplemental Agreement to its Facilities Agreement with Ohio Valley Electric Corp.

Filed Date: 6/30/2006.

Accession Number: 20060705-0066.

Comment Date: 5 p.m. Eastern Time on Friday, July 21, 2006.

Docket Numbers: ER06-1204-000.

Applicants: Southwest Power Pool, Inc.

Description: Southwest Power Pool, Inc submits a partially executed service agreement for Network Integration Transmission Service, Original Service Agreement No. 1267, with Kansas Power Pool et al. under ER06-1204.

Filed Date: 6/30/2006.

Accession Number: 20060705-0057.

Comment Date: 5 p.m. Eastern Time on Friday, July 21, 2006.

Docket Numbers: ER06-1205-000.

Applicants: 330 Fund I, L.P.

Description: 330 Fund I, LP submits its application for Market Based Rate Authority, Certain Waiver and Blanket Authorizations for its initial Rate Schedule No. 1.

Filed Date: 6/30/2006.

Accession Number: 20060705-0053.

Comment Date: 5 p.m. Eastern Time on Friday, July 21, 2006.

Docket Numbers: ER06-1206-000.

Applicants: 330 Investment Management, LLC.

Description: 330 Investment Management, LLC submits a Notice of Succession and its revised Rate Schedule No.1.

Filed Date: 6/30/2006.

Accession Number: 20060705-0054.

Comment Date: 5 p.m. Eastern Time on Friday, July 21, 2006.

Docket Numbers: ER06-1209-000.

Applicants: Upper Peninsula Power Company.

Description: Upper Peninsula Power Co submits an executed power purchase agreement with the City of Negaunee, MI.

Filed Date: 6/30/2006.

Accession Number: 20060706-0040.

Comment Date: 5 p.m. Eastern Time on Friday, July 21, 2006.

Docket Numbers: ER06-1210-000.

Applicants: Duke Power Company LLC.

Description: Duke Power Co, LLC dba Duke Energy Carolinas, LLC submits its Network Integration Transmission Service Agreement with the Public Works Department of the Town of Forest City, NC.

Filed Date: 6/30/2006.

Accession Number: 20060706-0037.

Comment Date: 5 p.m. Eastern Time on Friday, July 21, 2006.

Docket Numbers: ER06-1212-000.

Applicants: American Electric Power Service Corp.

Description: American Electric Power Service Corp on behalf of Kentucky Power Co submits a First Revised Interconnection and Local Delivery Service Agreement with the City of Olive Hill, KY.

Filed Date: 6/30/2006.

Accession Number: 20060706-0039.

Comment Date: 5 p.m. Eastern Time on Friday, July 21, 2006.

Take notice that the Commission received the following public utility holding company filings:

Docket Numbers: PH06-100-000.

Applicants: Empire District Electric Co.

Description: The Empire District Electric Company submits is petition for exemption of the Commission regulations, pursuant to Section 366.4(b)(2) and 366.4.

Filed Date: 6/29/2006.

Accession Number: 20060629-5051.

Comment Date: 5 p.m. Eastern Time on Thursday, July 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-11242 Filed 7-14-06; 8:45 am]

BILLING CODE 6717-01-P